NATIONAL AERONAUTICS AND SPACE ADMINISTRATION

[Notice 20-041]

NASA Advisory Council; Regulatory and Policy Committee; Meeting

AGENCY: National Aeronautics and Space Administration.

ACTION: Notice of meeting postponement.

SUMMARY: In accordance with the Federal Advisory Committee Act, the National Aeronautics and Space Administration (NASA) announces that the planned meeting on April 15, 2020, of the Regulatory and Policy Committee of the NASA Advisory Council is being postponed until further notice. This meeting was announced in the Federal Register Vol. 85, No. 60, Friday, March 27, 2020, Notices, page 17369. NASA will announce the new dates for this meeting in a future Federal Register notice.

Patricia Rausch,
Advisory Committee Management Officer, National Aeronautics and Space Administration.

[FR Doc. 2020-07581 Filed 4-9-20; 8:45 am]

BILLING CODE 7510-13-P